OFFICE OF PERSONNEL MANAGEMENT

Excepted Service

AGENCY: Office of Personnel Management (OPM).

ACTION: Notice.

SUMMARY: This notice identifies Schedule A, B, and C appointing authorities applicable to a single agency that were established or revoked from February 1, 2020 to February 29, 2020.

FOR FURTHER INFORMATION CONTACT: Julia Alford, Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during February 2020.

Schedule B

No Schedule B Authorities to report during February 2020.

Schedule C

The following Schedule C appointing authorities were approved during February 2020.

Agency name | Organization name | Position title | Authorization number | Effective date
DEPARTMENT OF AGRICULTURE | Rural Business Service | Confidential Assistant | DA200047 | 02/12/2020
DEPARTMENT OF COMMERCE | Office of Business Liaison | Deputy Director, Office of Business Liaison | DC200016 | 02/03/2020
| Office of Policy and Strategic Planning | Strategic Advisor | DC200077 | 02/26/2020
| Office of the Chief of Staff | Deputy Chief of Staff for Strategic Initiatives | DC200062 | 02/11/2020
| Confidential Assistant\ |  | DC200007 | 02/19/2020
| Office of the General Counsel | Confidential Assistant | DC200046 | 02/12/2020
| Office of Under Secretary | Senior Advisor | DC200058 | 02/25/2020
DEPARTMENT OF DEFENSE | Office of the Assistant Secretary of Defense (Legislative Affairs) | Special Assistant | DD200075 | 02/12/2020
| Office of the Assistant to the Secretary of Defense (Public Affairs) | Special Assistant | DD200117 | 02/26/2020
| Office of the Chief Management Officer | Special Assistant | DD200105 | 02/14/2020
| Office of the Deputy Under Secretary for Policy | Special Assistant | DD200121 | 02/28/2020
| Office of the Secretary of Defense | Defense Fellow | DD200074 | 02/12/2020
| Office of the Under Secretary of Defense (Personnel and Readiness) | Special Assistant | DD200078 | 02/06/2020
DEPARTMENT OF EDUCATION | Office of Postsecondary Education | Special Assistant | DB200035 | 02/05/2020
| Office for Civil Rights | Confidential Assistant | DB200037 | 02/06/2020
DEPARTMENT OF ENERGY | Office of the Assistant Secretary for Congressional and Intergovernmental Affairs | Legislative Affairs Advisor | DE200075 | 02/10/2020
ENVIRONMENTAL PROTECTION AGENCY | Office of the Associate Administrator for Congressional and Intergovernmental Relations | Principal Deputy Associate Administrator for the Office of Congressional and Intergovernmental Relations | EP200037 | 02/10/2020
|  | Assistant Deputy Associate Administrator for Intergovernmental Affairs | EP200045 | 02/27/2020
GENERAL SERVICES ADMINISTRATION | Rocky Mountain Region | Regional Administrator | GS200028 | 02/25/2020
| Northwest/Arctic Region | Regional Administrator | GS200029 | 02/25/2020
| Office of the Administrator | Special Assistant | GS200031 | 02/28/2020
DEPARTMENT OF HEALTH AND HUMAN SERVICES | Office of the Assistant Secretary for Public Affairs | Director of Communication Strategy and Campaigns | DH200019 | 02/05/2020
| Agency for Healthcare Research and Quality | Advisor | DH200071 | 02/07/2020
| Office of the Assistant Secretary for Health | Executive Director, Presidents Council on Sports, Fitness, and Nutrition | DH200079 | 02/25/2020
DEPARTMENT OF HOMELAND SECURITY | Office of the Chief of Staff | Deputy White House Liaison | DM200142 | 02/05/2020
DEPARTMENT OF JUSTICE | Office of Legal Policy | Counsel | DJ200070 | 02/05/2020
DEPARTMENT OF LABOR | Office of Congressional and Intergovernmental Affairs | Case Officer | DL200057 | 02/10/2020
| Office of the Assistant Secretary for Policy | Senior Counselor for Compliance Initiatives | DL200072 | 02/12/2020
| Office of the Secretary | Special Assistant (2) | DL200055 | 02/06/2020
|  |  | DL200075 | 02/10/2020
NATIONAL AERONAUTICS AND SPACE ADMINISTRATION | Office of the Administrator | Executive Assistant | NN200028 | 02/06/2020
OFFICE OF NATIONAL DRUG CONTROL POLICY | Office of Public Affairs | Public Affairs Specialist | QQ200002 | 02/11/2020
| Office of the Director | Special Advisor | QQ200003 | 02/28/2020
OVERSEAS PRIVATE INVESTMENT CORPORATION | Overseas Private Investment Corporation | Confidential Assistant | PQ200008 | 02/04/2020
SMALL BUSINESS ADMINISTRATION | Office of Communications and Public Liaison | Speechwriter | SB200008 | 02/14/2020
DEPARTMENT OF STATE | Bureau of African Affairs | Special Envoy for the Sahel Region of Africa | DS200044 | 02/25/2020
| Bureau of Education and Cultural Affairs | Special Advisor | DS200047 | 02/14/2020
| Office of the Counselor | Special Assistant | DS200053 | 02/26/2020
| Office of the Secretary | Senior Advisor | DS200048 | 02/14/2020
|  | Staff Assistant | DS200050 | 02/25/2020
|  | Special Advisor | DS200040 | 02/28/2020
DEPARTMENT OF TRANSPORTATION | Office of the Administrator | Governmental and Legislative Affairs Officer | DT200076 | 02/11/2020
|  | Senior Policy Advisor | DT200080 | 02/27/2020
| Office of Government and Industry | Governmental Affairs and External Outreach Advisor | DT200078 | 02/12/2020
| Office of the Secretary | Special Assistant for Advance Operations | DT200074 | 02/11/2020

The following Schedule C appointing authorities were revoked during February 2020.

Agency name | Organization name | Position title | Request number | Date vacated
DEPARTMENT OF AGRICULTURE | Office of Communications | Speechwriter | DA170174 | 02/01/2020
| Farm Service Agency | State Executive Director, North Carolina | DA180070 | 02/29/2020
| Office of the Assistant Secretary for Congressional Relations | Associate Director | DA190061 | 02/15/2020
| Office of the Secretary | Advanced Lead | DA190187 | 02/01/2020
| Office of the Under Secretary for Rural Development | Confidential Assistant | DA190114 | 02/01/2020
| Rural Utilities Service | Confidential Assistant | DA190201 | 02/01/2020
DEPARTMENT OF COMMERCE | Bureau of Industry and Security | Special Advisor | DC170158 | 02/01/2020
| Office of International Trade Administration | Special Assistant | DC180189 | 02/01/2020
| Office of Business Liaison | Special Advisor (2) | DC180166 | 02/01/2020
|  |  | DC180183 | 02/01/2020
| Office of Executive Secretariat | Confidential Assistant | DC190101 | 02/29/2020
| Office of Policy and Strategic Planning | Deputy Director, Office of Policy and Strategic Planning | DC190073 | 02/29/2020
| Office of White House Liaison | Deputy Director, Office of White House Liaison | DC190069 | 02/01/2020
|  | Confidential Assistant | DC190104 | 02/29/2020
OFFICE OF THE SECRETARY OF DEFENSE | Office of the Secretary of Defense | Defense Fellow | DD190027 | 02/21/2020
| Office of the Under Secretary of Defense (Comptroller) | Special Assistant | DD180055 | 02/29/2020
DEPARTMENT OF EDUCATION | Office for Civil Rights | Confidential Assistant for Policy | DB190040 | 02/28/2020
DEPARTMENT OF ENERGY | Office of the Assistant Secretary for Congressional and Intergovernmental Affairs | Special Advisor | DE190013 | 02/15/2020
|  | Special Assistant | DE190053 | 02/15/2020
|  | Senior Advisor | DE190016 | 02/15/2020
| Office of the Assistant Secretary for Electricity Delivery and Energy Reliability | Senior Advisor | DE190085 | 02/28/2020
| Office of the Assistant Secretary for Fossil Energy | Senior Advisor | DE180156 | 02/15/2020
| Office of the Assistant Secretary for International Affairs | Director for the Office of Global Energy Security | DE190166 | 02/15/2020
| Office of Policy | Principal Deputy Director | DE190118 | 02/01/2020
| Office of Public Affairs | Special Assistant | DE180104 | 02/12/2020
|  | Digital Director | DE190071 | 02/14/2020
|  | Special Advisor | DE190132 | 02/14/2020
| Office of the Under Secretary of Energy | Chief of Staff | DE180012 | 02/15/2020
DEPARTMENT OF HEALTH AND HUMAN SERVICES | Centers for Medicare and Medicaid Services | Senior Counselor | DH170220 | 02/01/2020
| Office for Civil Rights | Senior Advisor for Conscience Protection | DH180065 | 02/01/2020
| Office of the Assistant Secretary for Health | Chief of Staff | DH190235 | 02/29/2020
| Office of the Secretary | Special Assistant | DH190164 | 02/01/2020
|  | White House Liaison for Political Personnel, Boards and Commissions | DH190200 | 02/29/2020
DEPARTMENT OF HOMELAND SECURITY | Office of the United States Citizenship and Immigration Services | Special Assistant | DM190235 | 02/15/2020
DEPARTMENT OF HOUSING AND URBAN DEVELOPMENT | Office of the Deputy Secretary | Deputy White House Liaison | DU180088 | 02/03/2020
| Office of Congressional and Intergovernmental Relations | Senior Advisor | DU190091 | 02/29/2020
DEPARTMENT OF JUSTICE | Office of Civil Division | Counsel | DJ170154 | 02/22/2020
| Office of Justice Programs | Counsel | DJ190157 | 02/25/2020
| Office of Public Affairs | Press Assistant | DJ180150 | 02/25/2020
DEPARTMENT OF LABOR | Office of Congressional and Intergovernmental Affairs | Case Officer | DL190094 | 02/01/2020
|  | Intergovernmental Officer | DL190096 | 02/15/2020
| Office of Public Liaison | Deputy Director, Office of Public Liaison | DL190029 | 02/29/2020
DEPARTMENT OF STATE | Office of the Chief of Protocol | Protocol Officer (Gifts) | DS190110 | 02/18/2020
DEPARTMENT OF THE TREASURY | Office of the Deputy Secretary | Senior Advisor | DY180079 | 02/01/2020
| Secretary of the Treasury | Advance Representative | DY200009 | 02/01/2020
| Office of the Assistant Secretary (Economic Policy) | Special Advisor | DY200011 | 02/06/2020
DEPARTMENT OF TRANSPORTATION | Office of the Administrator | Governmental Affairs Officer | DT190099 | 02/15/2020
|  | Director of Public Affairs | DT200023 | 02/17/2020
|  | Director of Governmental Affairs | DT190062 | 02/29/2020
|  | Director of Governmental Affairs | DT190090 | 02/15/2020
| Office of the Assistant Secretary for Transportation Policy | Special Assistant | DT200065 | 02/22/2020
| Office of Government and Industry | Special Assistant for Governmental Affairs | DT190069 | 02/15/2020
| Office of the Associate Administrator for Highway Policy and Governmental Affairs | Associate Administrator | DT200003 | 02/01/2020
| Office of the Secretary | Special Assistant for Advance | DT190024 | 02/15/2020
|  | Deputy for Scheduling and Advance Operations | DT190124 | 02/28/2020
ENVIRONMENTAL PROTECTION AGENCY | Office of the Executive Secretariat | Attorney-Advisor (General) | EP190056 | 02/01/2020
|  | Special Advisor | EP180088 | 02/01/2020
| Office of the Assistant Administrator for Chemical Safety and Pollution Prevention | Associate Deputy Assistant Administrator for New Chemicals | EP190115 | 02/15/2020
| Office of the Administrator | Senior Advisor for Strategic Initiatives | EP190005 | 02/29/2020
|  | Special Advisor to the Deputy Chief of Staff for Operations | EP200028 | 02/29/2020
| Office of the Associate Administrator for Congressional and Intergovernmental Relations | Deputy Associate Administrator for the Office of Congressional and Intergovernmental Relations | EP190070 | 02/29/2020
|  | Director of Intergovernmental Affairs | EP190012 | 02/29/2020
GENERAL SERVICES ADMINISTRATION | Office of Congressional and Intergovernmental Affairs | Congressional Policy Analyst (3) | GS190014 | 02/01/2020
|  |  | GS190008 | 02/01/2020
|  |  | GS200025 | 02/28/2020
| Northwest/Artic Region | Senior Advisor to the Regional Administrator | GS190015 | 02/29/2020
| Office of the Administrator | White House Liaison and Senior to the Chief of Staff | GS190038 | 02/29/2020
|  | Special Assistant to the Regional Administrator | GS180006 | 02/29/2020
OFFICE OF MANAGEMENT AND BUDGET | Office of the Director | Special Assistant | BO200002 | 02/14/2020
| Office of Legislative Affairs | Legislative Analyst | BO180027 | 02/15/2020
OFFICE OF NATIONAL DRUG CONTROL POLICY | Office of Public Affairs | Public Affairs Specialist (Press Secretary) | QQ190001 | 02/15/2020
| Office of the Director | Special Advisor to the Director and Director of Operations | QQ180006 | 02/29/2020
OFFICE OF PERSONNEL MANAGEMENT | Office of the Director | White House Liaison | PM190039 | 02/25/2020
| Office of the General Counsel | Attorney-Advisor (General) | PM190037 | 02/28/2020
| Office of Communications | Confidential Assistant | PM190047 | 02/29/2020
OFFICIAL RESIDENCE OF THE VICE PRESIDENT | Official Residence of the Vice President | Deputy Social Secretary | RV190001 | 02/07/2020
SMALL BUSINESS ADMINISTRATION | Office of Administration | Special Assistant | SB190028 | 02/01/2020
| Office of Investment and Innovation | Senior Advisor | SB180037 | 02/01/2020

Authority: 5 U.S.C. 3301 and 3302; E.O. 10577, 3 CFR, 1954-1958 Comp., p. 218.

Office of Personnel Management.
Stephen Hickman,
Deputy Executive Secretary.

[FR Doc. 2020-22008 Filed 10-5-20; 8:45 am]

BILLING CODE 6325-39-P